ENVIRONMENTAL PROTECTION AGENCY

[EPA-HQ-OPPT-2012-0674; FRL-9533-2]

Information Collection Request Submitted to OMB for Review and Approval; Comment Request; Notification of Substantial Risk of Injury to Health and the Environment Under TSCA Section 8(e)

AGENCY: Environmental Protection Agency (EPA).

ACTION: Notice.

SUMMARY: The Environmental Protection Agency has submitted an information collection request (ICR), “Notification of Substantial Risk of Injury to Health and the Environment under TSCA Section 8(e)” (EPA ICR No. 0794.13, OMB Control No. 2070-0046) to the Office of Management and Budget (OMB) for review and approval in accordance with the Paperwork Reduction Act (44 U.S.C. 3501 et seq.). This is a renewal of the ICR that is currently approved through June 30, 2013. Public comments were previously requested via the Federal Register (77 FR 71415) on November 30, 2012, during a 60-day comment period. The ICR, which is abstracted below, describes the nature of the information collection activity and its expected burden and costs. Copies of the ICR and related documents are available in the docket.

DATES: Additional comments may be submitted on or before October 28, 2013.

ADDRESSES: Submit your comments, referencing Docket ID Number EPA-HQ-OPPT-2012-0674, to (1) EPA online using http://www.regulations.gov (our preferred method), by email to oppt.ncic@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Pamela Myrick, Deputy Director, Environmental Assistance Division, Office of Pollution Prevention and Toxics, Mail code: 7408-M, Environmental Protection Agency, 1200 Pennsylvania Ave. NW., Washington, DC 20460; telephone number: 202-554-1404; fax number: 202-564-8251; email address: TSCA-Hotline@epa.gov.

SUPPLEMENTARY INFORMATION:

Supporting documents which explain in detail the information that the EPA will be collecting are available in the public docket for this ICR. The docket can be viewed online at http://www.regulations.gov or in person at the EPA Docket Center, EPA West, Room 3334, 1301 Constitution Ave. NW., Washington, DC. The telephone number for the Docket Center is 202-566-1744. For additional information about EPA's public docket, visit http://www.epa.gov/dockets.

Abstract: Section 8(e) of the Toxic Substances Control Act (TSCA) requires that any person who manufactures, imports, processes or distributes in commerce a chemical substance or mixture and which obtains information that reasonably supports the conclusion that such substance or mixture presents a substantial risk of injury to health or the environment must immediately inform EPA of such information. EPA routinely disseminates TSCA section 8(e) data it receives to other Federal agencies to provide information about newly discovered chemical hazards and risks. This information collection addresses the burden associated with industry reporting of such notifications. The respondent may claim all or part of a notice confidential. EPA will disclose information that is covered by a claim of confidentiality only to the extent permitted by, and in accordance with, the procedures in TSCA and 40 CFR Part 2.

Form Numbers: None.

Respondents/affected entities: Entities potentially affected by this action are companies that manufacture, process, import or distribute in commerce a chemical substance or mixture and that obtain information that reasonably supports the conclusion that such substance or mixture presents a substantial risk of injury to health or the environment.

Respondent's obligation to respond: mandatory; see 15 USC 2607(e).

Estimated number of respondents: 555 (total).

Frequency of response: On occasion.

Total estimated burden: 19,659 hours per year. Burden is defined at 5 CFR 1320.03(b).

Total estimated burden cost: $1,366,491 per year, includes $0 annualized capital or operation and maintenance costs.

Changes in the Estimates: There is a decrease of 10,856 hours in the total estimated respondent burden compared with the ICR currently approved by OMB. This decrease represents changes in the number of estimated submissions based on EPA's recent experience with TSCA section 8(e) notices plus the effects of optional electronic reporting. This change involves both a program change (electronic reporting) and an adjustment. The Supporting Statement provides additional detail concerning the change in burden estimate.

Dated: September 19, 2013.
Richard T. Westlund,
Acting Director, Collection Strategies Division.

[FR Doc. 2013-23676 Filed 9-26-13; 8:45 am]

BILLING CODE 6560-50-P